DEPARTMENT OF TRANSPORTATION

Federal Aviation Administration

Public Notice for Waiver of Aeronautical Land-Use Assurance

AGENCY: Federal Aviation Administration (FAA), DOT.

ACTION: Notice of intent of waiver with respect to land; Quad City International Airport, Moline, Illinois.

SUMMARY: The FAA is considering a proposal to change a 3.03-acre portion of Parcel AA of airport land from aeronautical use to non-aeronautical use (for lease), located at Quad City International Airport, Moline, Illinois.

The subject 3.03-acre portion of Parcel AA (10.84 total acres) is located in the north quadrant of the airport along Airport Drive and currently not being used directly for aeronautical purposes other than for the protection of FAR Part 77 surfaces and compatible land use. The change from aeronautical to non-aeronautical use would allow the construction of a hotel on the subject 3.03-acre parcel. The aforementioned land is not needed for aeronautical use.

DATES: Comments must be received on or before July 15, 2013.

ADDRESSES: Documents are available for review by prior appointment at the FAA Airports District Office, Mr. Richard Pur, Airports Engineer, Federal Aviation Administration, Chicago Airports District Office, 2300 East Devon Avenue, Des Plaines, Illinois 60018. Telephone: (847) 294-7527/Fax: (847) 294-7046, and Metropolitan Airport Authority of Rock Island County, 2200 69th Avenue, Moline, Illinois 61265, and (309) 757-1732.

Written comments on the Sponsor's request must be delivered or mailed to: Mr. Richard Pur, Airports Engineer, Federal Aviation Administration, Chicago Airports District Office, 2300 East Devon Avenue, Des Plaines, Illinois 60018. Telephone: (847) 294-7527/Fax: (847) 294-7046.

FOR FURTHER INFORMATION CONTACT: Mr. Richard Pur, Airports Engineer, Federal Aviation Administration, Chicago Airports District Office, 2300 East Devon Avenue, Des Plaines, Illinois 60018. Telephone: (847) 294-7527/Fax: (847) 294-7046.

SUPPLEMENTARY INFORMATION: In accordance with section 47107(h) of Title 49, United States Code, this notice is required to be published in the Federal Register 30 days before modifying the land-use assurance that requires the property to be used for an aeronautical purpose.

Existing Parcel AA was originally acquired under FAAP Grant 9-11-024-C309 in June, 1962, with the subject portion of Parcel AA currently used for FAR Part 77 protection and to ensure compatible land use. The Metropolitan Airport Authority plans to allow the construction of a hotel on the subject property. Fair Market Value will be obtained from a long term lease with hotel owner.

The use of the revenue generated from the lease of the airport property will be in accordance with FAA's Policy and Procedures Concerning the Use of Airport Revenue, published in the Federal Register on February 16, 1999 (64 FR 7696).

This notice announces that the FAA is considering the release of the subject airport property at the Quad City International Airport, Moline, Illinois from its obligations to be maintained for aeronautical purposes. Approval does not constitute a commitment by the FAA to financially assist in the disposal of the subject airport property nor a determination of eligibility for grant-in-aid funding from the FAA.

Subject Portion of Parcel AA (Legal Description)

Part of Outlots 2 and 3 of Valley View Place, and addition situated in the Southeast Quarter of the Southwest Quarter of Section 16 and the Northeast Quarter of the Northwest Quarter of Section 21 all in Township 17 North, Range 1 West of the Fourth Principal Meridian in Rock Island County, Illinois, said Part being further described as follows:

Commencing at the Northwest Corner of the said Outlot 2, thence 00 degree 33 minutes 51 seconds West along the West line of said Outlot 2 a distance of 69.93 feet to a point on the South Right of Way Line of 69th Avenue (F.A. Route 10/F.A.U. Route 5788); thence South 73 degrees 22 minutes 14 seconds East along the said South Right of Way Line a distance of 35.28 feet to the point of Beginning; thence continuing South 73 degrees 22 minutes 14 seconds along said South Right of Way line a distance of 257.25 feet; thence South 56 degrees 53 minutes 02 seconds East along the said South Right of Way line a distance of 308.50 feet; thence South 41 degrees 10 minutes 02 seconds West a distance of 249.27 feet; thence North 66 degrees 41 minutes 12 seconds West a distance of 212.85 feet; thence North 89 degrees 42 minutes 30 seconds West a distance of 149.12 feet; thence North 00 degree 37 minutes 50 seconds East a distance of 344.83 feet to the Point of Beginning, containing 3.027 acres more or less.

Basis of bearings are to the West line of said Outlot 2 South 00 degree 33 minutes 51 seconds West to the Illinois State Plane Coordinate System, West Zone (NAD 83).

Issued in Des Plaines, Illinois, on May 15, 2013.
James G. Keefer,
Manager, Chicago Airports District Office, FAA, Great Lakes Region.

[FR Doc. 2013-14067 Filed 6-13-13; 8:45 am]

BILLING CODE 4910-13-P